GENERAL ACCOUNTING OFFICE

Federal Accounting Standards Advisory Board

AGENCY: General Accounting Office.

ACTION: Notice of Issuance of Statement of Federal Financial Accounting Standards (SFFAS) No. 18).

Board Action: Pursuant to the Federal Advisory Committee Act (Pub. L. No. 92-463), as amended, and the FASAB Rules Of Procedure, as amended in October, 1999, notice is hereby given that the Federal Accounting Standards Advisory Board (FASAB) has issued Statement of Federal Financial Accounting Standards (SFFAS) No. 18, Amendments to Accounting Standards for Direct Loans and Loan Guarantees in SFFAS No. 2.

The Board approved the Statement in February 2000, and submitted it to FASAB principals for a 90-day review. The review period closed on May 19, 2000.

SFFAS No. 18 provides the following new requirements to improve financial reporting for subsidy costs and performance of Federal credit programs:

• Report subsidy reestimates in two distinct components: the interest rate reestimate and the technical/default reestimate. The former is a reestimate due to a change in interest rates used in calculating the subsidy expense. The latter is a reestimate due to changes made in projected cash flows after reevaluating all the risk factors as of the financial statement date.

• Display a reconciliation on an entity-wide basis between the beginning and the ending balances of the subsidy cost allowance for direct loans and the liability for loan guarantees, reported in an entity's balance sheet.

• Provide a narrative to disclose and discuss events and changes in economic conditions and legislation that have had a significant and measurable effect on the subsidy costs of direct loans and loan guarantees.

The standards prescribed in SFFAS No. 18 are effective for periods beginning after September 30, 2000. Hard copies of the statement will be mailed to the FASAB mailing list. It is also available on the FASAB web site at www.financenet.gov/fasab.htm or by calling 202-512-7350.

FOR FURTHER INFORMATION CONTACT: Wendy Comes, Executive Director, 441 G St., NW., Mail Stop 6K17V, Washington, DC 20548, or call (202) 512-7350.

Authority: Federal Advisory Committee Act. Pub. L. No. 92-463.

Dated: May 23, 2000.
Wendy M. Comes,
Executive Director.

[FR Doc. 00-13306 Filed 5-25-00; 8:45 am]

BILLING CODE 1610-01-M